DEPARTMENT OF HOUSING AND URBAN DEVELOPMENT

[Docket No. FR 5044-N-02]

Notice of Proposed Information Collection for Public Comment Screening and Eviction for Drug Abuse and Other Criminal Activity

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 27, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita L. Waites, (202) 708-0713, extension 4114, for copies of the proposed forms and other available documents (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Screening and Eviction for Drug Abuse and Other Criminal Activity—Final Rule.

OMB Control Number: 2577-0232.

Description of the need for the information and proposed use: The collection of information implements statute and gives Public Housing Agencies (PHAs) and assisted housing owners the tools for adopting and implementing fair, effective and comprehensive policies for screening out program applicants who engage in illegal drug use or other criminal activity and for evicting or terminating assistance of persons who engage in such activity. PHAs that administer a Section 8 or public housing program under an Annual Contributions Contract (ACC) with HUD may request criminal history records from any law enforcement agency concerning an adult member of a household applying for admission to a public housing or Section 8 program.

Agency form numbers, if applicable: None.

Members of affected public: State or Local Government; Public Housing Agencies (PHAs).

Estimation of the total number of hours needed to prepare the information collection including number of respondents, frequency of response, and hours of response:3,300 PHAs (respondents); estimated average number of respondents 15,200; total annual burden hours 73,550.

Status of the proposed information collection: Extension.

Authority: Section 3506 of the Paperwork Reduction Act of 1995, 44 U.S.C. Chapter 35, as amended.

Dated: January 18, 2006.
Bessy Kong,
Deputy Assistant Secretary, Office of Policy, Program and Legislative Initiatives.

[FR Doc. E6-819 Filed 1-23-06; 8:45 am]

BILLING CODE 4210-33-P